DEPARTMENT OF TRANSPORTATION

Office of the Secretary

Fitness Determination of Mid-Atlantic Freight, Inc., d/b/a OBXpress Air Shuttle

AGENCY: Department of Transportation.

ACTION: Notice of order to show cause (Order 2003-4-19), Docket OST-02-14145.

SUMMARY: The Department of Transportation is proposing to find that Mid-Atlantic Freight, Inc. d/b/a OBXpress Air Shuttle is fit, willing, and able, to provide commuter air service under 49 U.S.C. 41738.

Responses: Objections and answers to objections should be filed in Docket OST-02-14145 and addressed to the Department of Transportation Dockets, PL-401, 400 Seventh Street, SW., Washington, DC 20590, and should be served on all persons listed in Attachment A to the order. Persons wishing to file objections should do so no later than May 9, 2003.

FOR FURTHER INFORMATION CONTACT: Ms. Delores King, Air Carrier Fitness Division (X-56, Room 6401), U.S. Department of Transportation, 400 Seventh Street, SW., Washington, DC 20590, (202) 366-2343.

Dated: April 25, 2003.
Read C. Van De Water,
Assistant Secretary for Aviation and International Affairs.

[FR Doc. 03-10942 Filed 5-2-03; 8:45 am]

BILLING CODE 4910-62-P